NATIONAL SCIENCE FOUNDATION

Proposal Review Panel for Materials Research; Notice of Meeting

In accordance with the Federal Advisory Committee Act (Pub. L. 92-463 as amended), the National Science Foundation announces the following meeting:

Name: Site visit review of the Cornell High Energy Synchrotron Source (CHESS) at Cornell University, Ithaca, NY by the Division of Materials Research (DMR) #1203.

Dates & Times:

October 25, 2015; 7:00 p.m.-9:00 p.m.

October 26, 2015; 8:00 a.m.-9:00 p.m.

October 27, 2015; 8:00 a.m.-4:00 p.m.

Place: Cornell University, Ithaca, NY.

Type of Meeting: Part open.

Contact Person: Dr. Guebre X. Tessema, Program Director, Division of Materials Research, Room 1065, National Science Foundation, 4201 Wilson Boulevard, Arlington, VA 22230, Telephone (703) 292-4935.

Purpose of Meeting: Site visit to provide advice and recommendations concerning further support of the CHESS.

Agenda

Sunday, October 25, 2015

7:00 p.m.-9:00 p.m. Closed—Briefing of panel

Monday, October 26, 2015

8:00 a.m.-4:15 p.m. Open—Review of the CHESS

4:15 p.m.-5:00 p.m. Closed—Executive Session

5:00 p.m.-6:00 p.m. Open Review of CHESS

7:00 p.m.-8:00 p.m. Open—Dinner

8:00 p.m.-9:00 p.m. Closed Executive Session

Tuesday, October 27, 2015

8:00 a.m.-9:00 a.m. Open—Review of the CHESS

9:00 a.m.-4:00 p.m. Closed—Executive Session, Draft and Review Report

Reason for Closing: The work being reviewed may include information of a proprietary or confidential nature, including technical information; financial data, such as salaries and personal information concerning individuals associated with the CHESS. These matters are exempt under 5 U.S.C. 552 b(c), (4) and (6) of the Government in the Sunshine Act.

Dated: September 30, 2015.
Crystal Robinson,

[FR Doc. 2015-25362 Filed 10-5-15; 8:45 am]

BILLING CODE 7555-01-P